DEPARTMENT OF EDUCATION

Applications for New Awards; Fund for the Improvement of Postsecondary Education—Open Textbooks Pilot Program

AGENCY: Office of Postsecondary Education, Department of Education.

ACTION: Notice.

SUMMARY: The Department of Education (Department) is issuing a notice inviting applications for new awards for fiscal year (FY) 2023 for the Open Textbooks Pilot program conducted under the Fund for the Improvement of Postsecondary Education (FIPSE), Assistance Listing Number (ALN) 84.116T. This notice relates to the approved information collection under OMB control number 1894-0006.

DATES:

Applications Available: March 17, 2023.

Deadline for Transmittal of Applications: May 16, 2023.

Deadline for Intergovernmental Review: July 17, 2023.

ADDRESSES: For the addresses for obtaining and submitting an application, please refer to our Common Instructions for Applicants to Department of Education Discretionary Grant Programs, published in the Federal Register on December 7, 2022 (87 FR 75045), and available at www.federalregister.gov/d/2022-26554. Please note that these Common Instructions supersede the version published on December 27, 2021.

FOR FURTHER INFORMATION CONTACT: Kurrinn Abrams, U.S. Department of Education, 400 Maryland Avenue SW, 2nd Floor, Washington, DC 20202. Telephone: (202) 987-1920. Email: kurrinn.abrams2@ed.gov.

If you are deaf, hard of hearing, or have a speech disability and wish to access telecommunications relay services, please dial 7-1-1.

SUPPLEMENTARY INFORMATION:

Full Text of Announcement

I. Funding Opportunity Description

Purpose of Program: The Open Textbooks Pilot program supports projects at eligible institutions of higher education (IHEs) or State higher education agencies that create new open textbooks (as defined in this notice) and expand the use of open textbooks and course materials in courses that are part of a degree-granting program, particularly those with high enrollments. Applicants are encouraged to develop projects that demonstrate the greatest potential to achieve the highest level of savings for students through sustainable, expanded use of open educational resources in high-enrollment courses (as defined in this notice) or in programs that prepare individuals for in-demand fields.

Background: The cost of attending college has steadily increased over the last 10 years, driven in part by the increased cost of college textbooks. College textbook costs increased 41 percent between 2011 and 2018.¹ Although they decreased slightly between 2019 and 2021, the cost of college textbooks was still 36 percent higher in 2021 than in 2011.²

¹ Bureau of Labor Statistics, U.S. Dept. of Labor, The Economics Daily, “Cost of college tuition has remained stable since September 2019” (Aug. 31, 2021), available at https://www.bls.gov/opub/ted/2021/cost-of-college-tuition-has-remained-stable-since-september-2019.htm.

² Ibid.

Increasing textbook costs introduce an additional barrier to college access and completion, particularly for low-income students. This barrier was exacerbated during the COVID-19 pandemic (pandemic), as many students suffered a financial disruption. Research shows that 40 percent of undergraduate students experienced a financial disruption due to the pandemic.³ Those students who experienced a financial disruption experienced several challenges, such as a lack of financial aid, housing disruption, lack of access to safe, stable child care, difficulty paying for or accessing food, or a loss of job or income.⁴ Those students who experienced a financial disruption also experienced a disruption in their enrollment status at their institution. Recent data points to 87.5 percent of students who experienced a disruption or change in their enrollment during the pandemic, with 84.1 percent of students having their classes moved to online-only formats. Of those students who experienced a disruption in enrollment, many either withdrew from college entirely (4.4 percent) or took a leave of absence from their institution (3.8 percent).⁵

³ U.S. Department of Education, National Center for Education Statistics, “2019-20 National Postsecondary Student Aid Study (NPSAS:20)” (June 2021), available at https://nces.ed.gov/pubs2021/2021456_Summary.pdf.

⁴ Ibid.

⁵ Ibid.

In recent years, the development of open textbooks and other open educational resources has emerged as a potential solution to help students overcome financial barriers to accessing higher education, and thereby additionally support retention and completion. In fact, in a study conducted by the Open Textbook Alliance, switching from commercial textbooks to open educational resources nationwide in the 10 introductory core-curriculum courses surveyed in the study, would collectively save students an estimated $1.5 billion per year on course materials.⁶ As students are able to return to college post-pandemic, open textbooks and open educational resources can further provide students the opportunity to reallocate financial aid money to other important educational resources and necessary costs of attending college.⁷

⁶ Student Public Interest Research Groups, “Open 101: An Action Plan for Affordable Textbooks” (Jan. 25, 2018), available at https://studentpirgs.org/2018/01/25/open-101-action-plan-affordable-textbooks/.

⁷ U.S. Department of Education, Office of Educational Technology, “Open Education: Why Use Openly Licensed Educational Resources?”, available at https://tech.ed.gov/open/.

In addition to the cost-saving benefits of open resources, there are additional benefits for students and faculty. Open textbooks and open educational resources increase equity because institutions are able to freely distribute these resources and provide students access to high-quality, up-to-date, and relevant content and materials. Furthermore, access to open resources can empower faculty to customize learning materials to better meet the needs of their students.⁸ This is even more beneficial in a post-pandemic environment, as many classes continue to operate in a hybrid environment or remotely. Open textbooks and open educational resources can support faculty's ability to create new and innovative learning practices and utilize various collaboration technologies, in order to create an inclusive, yet personalized, and engaging learning experience.⁹

⁸ Ibid.

⁹ EDUCAUSE Review, “Reimagining Higher Education: The Post-Covid Classroom”, (April 6, 2021), Available at https://er.educause.edu/articles/2021/4/reimagining-higher-education-the-post-covid-classroom.

Post-pandemic, higher education looks different, and as many institutions begin to rethink the higher education experience, both inside and outside the classroom, it is important for institutions to look at best practices for improving retention and completion, such as through supplementing or expanding evidence-based and data-driven activities. While open textbooks often are available for general education or introductory courses, the Department seeks to promote retention and degree completion by supporting the development of open textbooks at all levels within an academic program. This program, therefore, emphasizes expanding the use of existing open textbooks in general education or introductory courses, as well as developing open textbooks for several required courses in one or more high-enrollment majors to ensure that students will benefit from cost savings throughout their programs.

Priorities: These priorities are from the Notice of Final Priorities, Requirements, and Definitions (NFP) for this program published in the Federal Register on September 15, 2020 (85 FR 57138).

Absolute Priorities: For FY 2023, and any subsequent year in which we make awards from the list of unfunded applications from this competition, these priorities are absolute priorities. Under 34 CFR 75.105(c)(3), we consider only applications that meet each of these priorities.

These priorities are:

Absolute Priority 1—Improving Collaboration and Dissemination.

To meet this priority, an eligible applicant must propose to lead and carry out projects that involve a consortia of institutions, instructors, and subject matter experts, including no less than three IHEs, along with relevant employers, workforce stakeholders (as defined in this notice), and/or trade or professional associations (as defined in this notice). Applicants must explain how the members of the consortium will work together to develop and implement open textbooks that: (a) reduce the cost of college for large numbers of students through a variety of cost saving measures; and (b) contain instructional content and ancillary instructional materials that align student learning objectives with the skills or knowledge required by large numbers of students (at a given institution or nationally), or in the case of a career and technical postsecondary program, meet industry standards in in-demand industry sectors or in-demand occupations (as defined in this notice).

Absolute Priority 2—Addressing Gaps in the Open Textbook Marketplace and Bringing Solutions to Scale.

To meet this priority, an applicant must identify the gaps in the open textbook marketplace in courses that are part of a degree-granting program that it seeks to address and propose how to close such gaps. An applicant must propose a comprehensive plan to: (a) identify and assess existing open educational resources in the proposed subject area before creating new ones, such as by identifying any existing open textbooks that could potentially be used as models for the design of the project or ancillary learning resources that would support the development of courses that use open textbooks; (b) focus on the creation and expansion of education and training materials that can be scaled, within and beyond the participating consortium members, to reach a broad range of students participating in high-enrollment courses or preparing for in-demand industry sectors or in-demand occupations; (c) create and disseminate protocols to review any open textbooks created or adapted through the project for accuracy, rigor, and accessibility for students with disabilities; (d) disseminate information about the results of the project to other IHEs, including promoting the adoption of any open textbooks created or adapted through the project, or adopting open standard protocols and processes that support the interoperability for any digital assets created; (e) include professional development to build capacity of faculty, instructors, and other staff to adapt and use open textbooks; and (f) describe the courses for which open textbooks and ancillary materials are being developed.

Absolute Priority 3—Promoting Student Success.

To meet this priority, an applicant must propose to build upon existing open textbook materials and/or develop new open textbooks for high-enrollment courses or high-enrollment programs in order to achieve the highest level of savings for students.

Additionally, this priority requires the applicant to include plans for: (a) promoting and tracking the use of open textbooks in postsecondary courses across participating members of the consortium, including an estimate of the projected direct cost savings for students which will be reported during the annual performance review; (b) monitoring the impact of open textbooks on instruction, learning outcomes, course outcomes, and educational costs; (c) investigating and disseminating evidence-based practices associated with using open textbooks that improve student outcomes; and (d) updating the open textbooks beyond the funded period.

Competitive Preference Priority: For FY 2023, and any subsequent year in which we make awards from the list of unfunded applications from this competition, this priority is a competitive preference priority. Under 34 CFR 75.105(c)(2)(i), we award up to an additional 5 points to an application, depending on how well the application meets this priority.

This priority is:

Using Technology-Based Strategies for Personalized Learning and Continuous Improvement (up to 5 points).

To meet this priority, an applicant must propose a project that focuses on improving instruction and student learning outcomes by integrating technology-based strategies, such as personalized learning, and providing support to faculty, instructors, and other staff who are delivering courses using these techniques. The project must enable students to tailor and monitor their own learning and/or allow instructors to monitor the individual performance of each student in the classes or courses for which the applicant proposes to develop open textbooks. In addition, online and technology-enabled content and courses developed under this project must incorporate the principles of universal design in order to ensure that they are readily accessible by all students, including students with disabilities. The openly licensed resources that are developed should support traditional, text-based materials, including through such tools as adaptive learning modules, digital simulations, and tools to assist student engagement.

Invitational Priority: For FY 2023, and any subsequent year in which we make awards from the list of unfunded applications from this competition, this priority is an invitational priority. Under 34 CFR 75.105(c)(1), we do not give an application that meets this invitational priority a competitive or absolute preference over other applications.

This priority is:

Participation by Minority-Serving Institutions and Community Colleges.

An application from a Minority-Serving Institution (MSI) (as defined in this notice) or community college (as defined in this notice) that leads the activities of the consortium and serves as the fiscal agent; or an application from a consortium in which an MSI or community college is a member of the consortium but not the lead applicant.

For the purpose of this priority, the definition of “minority-serving institution” is from the Supplemental Priorities and section 437(d)(1) of the General Education Provisions Act (GEPA). The definition of “community college” is from section 312(f) of the Higher Education Act of 1965, as amended (HEA) (20 U.S.C. 1058(f)). These definitions apply to this competition for FY 2023 and any subsequent year in which we make awards from the list of unfunded applicants from this competition.

Community college means an institution that meets the definition in section 312(f) of the Higher Education Act (HEA) (20 U.S.C. 1058(f)).

Minority-Serving Institution means an institution that is eligible to receive assistance under sections 316 through 320 of part A of title III, under part B of title III, or under title V of the HEA.

Note: The list of institutions currently designated as eligible under title III and title V is available at: www2.ed.gov/about/offices/list/ope/idues/eligibility.html#el-inst.

Requirements: These requirements are from the NFP and apply to this competition for FY 2023 and any subsequent year in which we make awards from the list of unfunded applications from this competition.

Accessibility: All digital content developed under this grant program must incorporate the principles of universal design (https://udlguidelines.cast.org/) to ensure that they are accessible to individuals with disabilities. The content and courses must be in full compliance with the Americans with Disabilities Act, Section 504 of the Rehabilitation Act of 1973, as amended, and the Web Content Accessibility Guidelines 2.1, Level AA (www.w3.org/TR/WCAG/).

Technical Standards for Interoperability: All digital assets developed under this grant program must be produced to maximize interoperability, exchange, and reuse and must conform to industry-recognized open standards and specifications. Applicants must identify the industry standard they will use. All digital assets created in whole or in part under this grant program must be licensed for free, attributed public use and distribution as required under 2 CFR 3474.20.

Definitions: The following definitions are from the NFP and apply to this competition for FY 2023 and any subsequent year in which we make awards from the list of unfunded applications from this competition.

High-enrollment courses means courses that are required for a degree-granting program offered by an eligible IHE that either have total student enrollments within the top third of courses: (a) at the lead institution, if applicable, or at one or more of the consortia partner institutions; (b) in the State; or (c) nationally as compared to other academic or career and technical education courses.

High-enrollment program means a program that yields a postsecondary degree that either has total student enrollments within the top third of programs: (a) at the lead institution, if applicable, or at one or more of the consortia partner institutions; (b) in the State; or (c) nationally as compared to other academic or career and technical education programs.

In-demand industry sector means an industry sector that has a substantial current or potential impact (including through jobs that lead to economic self-sufficiency and opportunities for advancement) on the State, regional, or local economy, as appropriate, and that contributes to the growth or stability of other supporting businesses, or the growth of other industry sectors.

In-demand occupation means an occupation that currently has or is projected to have a number of positions (including positions that lead to economic self-sufficiency and opportunities for advancement) in an industry sector so as to have a significant impact on the State, regional, or local economy, as appropriate.

Open textbook means a textbook that is licensed under a worldwide, nonexclusive, royalty-free, perpetual, and irrevocable license to the public to exercise any of the rights under copyright conditioned only on the requirement that attribution be given as directed by the copyright owner. An open textbook may also include a variety of open educational resources or materials used by instructors in the development of a course and those learning activities necessary for successful completion of a course by students. These include any learning exercises, technology-enabled experiences (e.g., simulations), and adaptive support and assessment tools.

Sector partner means a member of a workforce collaborative, convened by or acting in partnership with a State board or local board, that organizes key stakeholders interconnected by labor markets, technologies, and worker skill needs into a working group that focuses on shared goals and resource needs.

Trade or professional association means a membership organization that inspects employers or practitioners, or leads credentialing programs, in a specific industry or sector.

Workforce stakeholder means an individual or organization with an interest in the employability of others either for self-interest or the interest of other employers.

Authorized Activities: As outlined in House Report 117-403 accompanying the 2023 Consolidated Appropriations Act, allowable uses of funds include professional development for faculty and staff, including relating to the search for and review of open textbooks; the creation or adaptation of open textbooks; development or improvement of tools and informational resources that support the use of open textbooks, including accessible instructional materials for students with disabilities; and research evaluating the efficacy of the use of open textbooks for achieving savings for students and the impact on instruction and student learning outcomes.

Program Authority: 20 U.S.C. 1138-1138d; the Explanatory Statement accompanying Division H of the Consolidated Appropriations Act, 2023 (Pub. L. 117-328).

Note: Projects will be awarded and must be operated in a manner consistent with the nondiscrimination requirements contained in Federal civil rights laws.

Applicable Regulations: (a) The Education Department General Administrative Regulations in 34 CFR parts 75, 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The NFP. (e) The Supplemental Priorities.

Note: The regulations in 34 CFR part 86 apply to IHEs only.

II. Award Information

Type of Award: Discretionary grants.

Estimated Available Funds: $10,626,704.

Contingent upon the availability of funds and the quality of applications, we may make additional awards in subsequent years from the list of unfunded applications for this competition.

Estimated Range of Awards: $1,773,000-$2,125,000.

Estimated Average Size of Awards: $2,125,000.

Maximum Award: We will not make an award exceeding $2,125,000 for the entire project period of 36 months.

Estimated Number of Awards: 5.

Note: The Department is not bound by any estimates in this notice.

Project Period: Up to 36 months.

III. Eligibility Information

1. Eligible Applicants: Eligible applicants are IHEs as defined in section 101 of the HEA (20 U.S.C. 1001), or State higher education agencies that:

(a) Lead the activities of a consortium that is comprised of at least:

(i) Three IHEs as defined in section 101 of the HEA;

(ii) An educational technology or electronic curriculum design expert (which may include such experts that are employed by one or more of the consortium institutions); and

(iii) An advisory group of at least three employers, workforce organizations, or sector partners; and

(b) Have demonstrated experience in the development and implementation of open educational resources.

2. a. Cost Sharing or Matching: This program does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: Under 34 CFR 75.708(b) and (c) a grantee under this competition may award subgrants—to directly carry out project activities described in its application—to entities listed in the grant application.

IV. Application and Submission Information

1. Application Submission Instructions: Applicants are required to follow the Common Instructions for Applicants to Department of Education Discretionary Grant Programs, published in the Federal Register on December 7, 2022 (87 FR 75045), and available at www.federalregister.gov/d/2022-26554, which contain requirements and information on how to submit an application. Please note that these Common Instructions supersede the version published on December 27, 2021.

2. Submission of Proprietary Information: Given the types of projects that may be proposed in applications for the Open Textbook Pilot program, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this program.

4. Funding Restrictions: We reference regulations outlining funding restrictions in the Applicable Regulations section of this notice.

5. Recommended Page Limit: The application narrative is where you, the applicant, address the selection criteria that reviewers use to evaluate your application. We recommend that you (1) limit the application narrative to no more than 60 pages and (2) use the following standards:

• A “page” is 8.5″ x 11″, on one side only, with 1″ margins at the top, bottom, and both sides.

• Double-space all text in the application narrative, including titles, headings, footnotes, quotations, references, and captions.

• Use a readable 12-point font such as Times New Roman, Courier, Courier New, or Arial.

The recommended 60-page limit applies only to the application narrative and does not apply to Part I, the cover sheet; Part II, the budget section, including the narrative budget justification; Part IV, the assurances and certifications; or the one-page abstract, the resumes, the bibliography, or the letters of support. We recommend that any application addressing the competitive preference priority include no more than three additional pages for the priority, if the priority is addressed.

6. Program Profile: Applicants must indicate in the recommended one-page abstract all of the IHEs that comprise the consortium, the projected direct cost savings for students, and whether they addressed the competitive preference priority and the invitational priority.

V. Application Review Information

1. Selection Criteria: The selection criteria for this competition are from 34 CFR 75.210. The maximum score for all of the selection criteria is 100 points. The maximum score for each criterion is included in parentheses following the title of the specific selection criterion. Each criterion also includes the factors that reviewers will consider in determining the extent to which an applicant meets the criterion.

Points awarded under the competitive preference priority are in addition to any points an applicant earns for all of the selection criteria in this notice. The maximum score that an application may receive under the competitive preference priority and the selection criteria is 105. The selection criteria are as follows:

a. Significance. (up to 20 points)

The Secretary considers the significance of the proposed project. In determining the significance of the proposed project, the Secretary considers the following factors:

(1) The extent to which the proposed project is likely to build local capacity to provide, improve, or expand services that address the needs of the target population (up to 10 points).

(2) The potential replicability of the proposed project or strategies, including, as appropriate, the potential for implementation in a variety of settings (up to 10 points).

b. Quality of the Project Design. (up to 16 points)

The Secretary considers the quality of the design of the proposed project. In determining the quality of the design of the proposed project, the Secretary considers the following factors:

(1) The extent to which the goals, objectives, and outcomes to be achieved by the proposed project are clearly specified and measurable (up to 4 points).

(2) The extent to which the design of the proposed project is appropriate to, and will successfully address, the needs of the target population or other identified needs (up to 4 points).

(3) The extent to which the proposed project is designed to build capacity and yield results that will extend beyond the period of Federal financial assistance (up to 4 points).

(4) The extent to which the proposed project represents an exceptional approach to the priority or priorities established for the competition (up to 4 points).

c. Quality of Project Services. (up to 15 points)

The Secretary considers the quality of the services to be provided by the proposed project. In determining the quality of the services to be provided by the proposed project, the Secretary considers the quality and sufficiency of strategies for ensuring equal access and treatment for eligible project participants who are members of groups that have traditionally been underrepresented based on race, color, national origin, gender, age, or disability. In addition, the Secretary considers the following factors:

(1) The likelihood that the services to be provided by the proposed project will lead to improvements in the achievement of students as measured against rigorous academic standards (up to 5 points).

(2) The extent to which the services to be provided by the proposed project involve the collaboration of appropriate partners for maximizing the effectiveness of project services (up to 5 points).

(3) The extent to which the training or professional development services to be provided by the proposed project are of sufficient quality, intensity, and duration to lead to improvements in practice among the recipients of those services (up to 5 points).

d. Quality of Project Personnel. (up to 9 points)

The Secretary considers the quality of the personnel who will carry out the proposed project. In determining the quality of project personnel, the Secretary considers the extent to which the applicant encourages applications for employment from persons who are members of groups that have traditionally been underrepresented based on race, color, national origin, gender, age, or disability. In addition, the Secretary considers the following factors:

(1) The qualifications, including relevant training and experience, of the project director or principal investigator (up to 5 points).

(2) The qualifications, including relevant training and experience, of key project personnel (up to 4 points).

e. Adequacy of Resources. (up to 20 points)

The Secretary considers the adequacy of resources for the proposed project. In determining the adequacy of resources for the proposed project, the Secretary considers the following factors:

(1) The relevance and demonstrated commitment of each partner in the proposed project to the implementation and success of the project (up to 10 points).

(2) The extent to which the costs are reasonable in relation to the objectives, design, and potential significance of the proposed project (up to 10 points).

f. Quality of the Management Plan. (up to 10 points)

The Secretary considers the quality of the management plan for the proposed project. In determining the quality of the management plan for the proposed project, the Secretary considers the following factors:

(1) The adequacy of the management plan to achieve the objectives of the proposed project on time and within budget, including clearly defined responsibilities, timelines, and milestones for accomplishing project tasks (up to 5 points).

(2) The extent to which the time commitments of the project director and principal investigator and other key project personnel are appropriate and adequate to meet the objectives of the proposed project (up to 5 points).

g. Quality of the Project Evaluation. (up to 10 points)

The Secretary considers the quality of the evaluation to be conducted of the proposed project. In determining the quality of the evaluation, the Secretary considers the following factors:

(1) The extent to which the methods of evaluation are thorough, feasible, and appropriate to the goals, objectives, and outcomes of the proposed project (up to 5 points).

(2) The extent to which the methods of evaluation include the use of objective performance measures that are clearly related to the intended outcomes of the project and will produce quantitative and qualitative data to the extent possible (up to 5 points).

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

For this competition, a panel of external reviewers will read, prepare a written evaluation of, and score all eligible applications using the selection criteria and the competitive preference priority, if applicable, provided in this notice. The individual scores of the reviewers will be added and the sum divided by the number of reviewers to determine the peer review score. The Department may use more than one tier of reviews in evaluating grantees. The Department will prepare a rank order of applications based solely on the evaluation of their quality according to the selection criteria and competitive preference priority points.

In the event there are two or more applications with the same final score in the rank order listing, and there are insufficient funds to fully support each of these applications, the Department will apply the following procedure to determine which application or applications will receive an award:

First Tiebreaker: The first tiebreaker will be the highest average score for the selection criterion “Quality of the Project Design.” If a tie remains, the second tiebreaker will be utilized.

Second Tiebreaker: The second tiebreaker will be the highest average score for the selection criterion “Significance.” If a tie remains, the third tiebreaker will be utilized.

Third Tiebreaker: The third tiebreaker will be the highest average score for the competitive preference priority. If a tie remains, the fourth tiebreaker will be utilized.

Fourth Tiebreaker: The fourth tiebreaker will be the applicant that proposes the highest level of savings for students in response to Absolute Priority 3 and the Annual Performance Reporting requirements. Applicants must indicate the projected direct cost savings for students in the one-page abstract. If a tie remains, the fifth tiebreaker will be utilized.

Fifth Tiebreaker: The fifth tiebreaker will be the applicant that promotes equitable geographic distribution of OTP grantees.

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115—232) (2 CFR 200.216);

(c) Providing a preference, to the extent permitted by law, to maximize the use of goods, products, and materials produced in the United States (2 CFR 200.322); and

(d) Terminating agreements in whole or in part to the greatest extent authorized by law if an award no longer effectuates the program goals or agency priorities (2 CFR 200.340).

VI. Award Administration Information

1. Award Notices: If your application is successful, we will notify your U.S. Representative and U.S. Senators and send you a Grant Award Notification (GAN); or we may send you an email containing a link to access an electronic version of your GAN. We may notify you informally, also.

If your application is not evaluated or not selected for funding, we will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: For the purposes of Department reporting under 34 CFR 75.110, we have established the following set of performance measures for the Open Textbooks Pilot program grants:

a. The number of students who enrolled in courses that use open textbooks and/or ancillary materials developed through the grant;

b. The number of students who completed courses that used open textbooks and/or ancillary materials developed through the grant;

c. The failure rate or withdrawal rate in courses that use open textbooks and/or ancillary materials compared with equivalent courses that used commercial textbooks;

d. The average grade of students who completed a course that used open textbooks and/or ancillary materials developed through the grant compared with the equivalent average grade of students who used commercial textbooks;

e. The number of faculty/instructors that use open textbooks and/or ancillary materials developed through the grant;

f. The number of institutions within the consortium, and the number of institutions outside of the consortium, that adopted the open textbooks and/or ancillary materials developed through the grant;

g. The number of courses among consortium members that adopted the open textbooks and/or ancillary materials developed through the grant, compared to those that continued to use commercial textbooks;

h. The number of faculty/instructors or institutions that use tools for revising and remixing open educational resources content to facilitate adoption of open textbooks and/or ancillary materials developed through the grant;

i. The average cost savings per student; and

j. The total cost savings for students who used open textbooks and/or ancillary materials developed through the grant compared to students in the same course of study who used traditional textbooks.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this website you can view this document, as well as all other documents of this Department published in the Federal Register, in text or Portable Document Format (PDF). To use PDF you must have Adobe Acrobat Reader, which is available for free at the website.

You may also access documents of the Department published in the Federal Register by using the article search feature at www.federalregister.gov. Specifically, through the advanced search feature at this site, you can limit your search to documents published by the Department.

Nasser Paydar,
Assistant Secretary for the Office of Postsecondary Education.

[FR Doc. 2023-05456 Filed 3-16-23; 8:45 am]

BILLING CODE 4000-01-P